DEPARTMENT OF TRANSPORTATION

Federal Aviation Administration

Approval of Noise Compatibility Program for Hilo International Airport, Hilo, HI

AGENCY: Federal Aviation Administration, DOT.

ACTION: Notice.

SUMMARY: The Federal Aviation Administration (FAA) announces its findings on the Noise Compatibility Program submitted by the State of Hawaii, Department of Transportation under the provisions of Title I of the Aviation Safety and Noise Abatement Act of 1979 (Pub. L. 96-193) and Title 14, Code of Federal Regulations, Part 150 (FAR part 150). These findings are made in recognition of the description of Federal and nonfederal responsibilities in Senate Report No. 96-52 (1980). On November 28, 2000, the FAA determined that the noise exposure maps submitted by the State of Hawaii, Department of Transportation under FAR Part 150 were in compliance with applicable requirements. On October 24, 2001, the Acting Associate Administrator for Airports approved the Hilo International Airport Noise Compatibility Program. All eight of the program measures have been approved. Two measures were approved as voluntary measures and six measures were approved outright.

EFFECTIVE DATE: The effective date of the FAA's approval of the Hilo International Airport Noise Compatibility Program is October 24, 2001.

FOR FURTHER INFORMATION CONTACT: David J. Welhouse, Airport Planner, Honolulu Airports District Office, Federal Aviation Administration, Box 50244, Honolulu, Hawaii 96850-0001, Telephone: (808) 541-1243. Street Address: 300 Ala Moana Blvd., Room 7-128. Documents reflecting this FAA action may be received at this location.

SUPPLEMENTARY INFORMATION: This notice announces that the FAA has given its overall approval to the Noise Compatibility Program for the Hilo International Airport, effective October 24, 2001.

Under section 104(a) of the Aviation Safety and Noise Abatement Act of 1979 (hereinafter referred to as “the Act”), an airport operator who has previously submitted a Noise Exposure Map may submit to the FAA a Noise Compatibility Program which sets forth the measures taken or proposed by the airport operator for the reduction of existing noncompatible land uses and prevention of additional noncompatible land uses within the area covered by the Noise Exposure Maps. The Act requires such program to be developed in consultation with interested and affected parties including local communities, government agencies, airport users, and FAA personnel.

Each airport Noise Compatibility Program developed in accordance with FAR part 150 is a local program, not a Federal program. The FAA does not substitute its judgment for that of the airport proprietor with respect to which measures should be recommended for action. The FAA's approval or disapproval of FAR part 150 program recommendations is measures according to the standards expressed in FAR part 150 and is limited to the following determinations:

a. The Noise Compatibility Program was developed in accordance with the provisions and procedures of FAR part 150;

b. Program measures are reasonably consistent with achieving the goals of reducing existing noncompatible land uses around the airport and preventing the introduction of additional noncompatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport Noise Compatibility Program are delineated in FAR Part 150, § 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the FAA Airports District Office in Honolulu, Hawaii.

The State of Hawaii, Department of Transportation submitted to the FAA on December 29, 2000, the noise exposure maps, descriptions, and other documentation produced during the noise compatibility planning study conducted from April 1998 through December 2000. The Hilo International Airport noise exposure maps were determined by FAA to be in compliance with applicable requirements on November 28, 2000. Notice of this determination was published in the Federal Register on December 21, 2000.

This Hilo International Airport study contains a proposed Noise Compatibility Program comprised of actions designed for phased implementation by airport management and adjacent jurisdictions from the date of study completion to the year 2005. It was requested that the FAA evaluate and approve this material as a Noise Compatibility Program as described in section 104(b) of the Act. The FAA began its review of the program on April 27, 2001 and was required by a provision of the Act to approve or disapprove the program within 180 days (other than the use of new flight procedures for noise control). Failure to approve or disapprove such program within the 180-day period shall be deemed to be an approval of such program.

The submitted program contained eight proposed actions for noise mitigation on and off the airport. The FAA completed its review and determined that the procedural and substantive requirements of the Act and FAR Part 150 have been satisfied. The Acting Associate Administrator for Airports approved the overall program effective October 24, 2001.

All eight program measures were approved. The following two measures were approved as voluntary measures: Publish an Informal Preferential Runway Use Program and request use of certain flight procedures; and, Restrictions on Military Training Operations. The following six measures were approved outright: Continue to study the possible land exchange with Hawaiian Home Lands to locate suitable State or private lands which could be exchanged for Keaukaha Tract 1 and 2 lands within the 60 DNL contour; Sound attenuation barrier; Sound attenuation treatment of impacted structures; Continue to monitor development proposals in the Hilo International Airport environs and disclose Airport Noise Exposure Maps to the community; Disclose the Base Year and 5-Year Noise Exposure Maps to the local community by providing overlays of the noise contours on a Tax Map; and, Annually monitor Hilo International Airport aircraft noise levels and operations at Hilo International Airport and conduct public informational meetings on the progress of the Part 150 program.

These determinations are set forth in-detail in a Record of Approval endorsed by the Administrator on October 24, 2001. The Record of Approval, as well as other evaluation materials and the documents comprising the submittal, are available for review at the FAA office listed above and at the administrative offices of the State of Hawaii.

Issued in Hawthorne, California on November 28, 2001.
Herman C. Bliss,
Manager, Airports Division.

[FR Doc. 01-30281 Filed 12-5-01; 8:45 am]

BILLING CODE 4910-13-M